DEPARTMENT OF THE TREASURY

Office of Foreign Assets Control

31 CFR Part 543

Persons Contributing to the Conflict in Côte d'Ivoire Sanctions Regulations

AGENCY: Office of Foreign Assets Control, Treasury.

ACTION: Final rule.

SUMMARY: The Department of the Treasury's Office of Foreign Assets Control (“OFAC”) is amending the Persons Contributing to the Conflict in Côte d'Ivoire Sanctions Regulations, 31 CFR part 543 (the “Regulations”), to change the heading of the Regulations.

DATES: Effective Date: July 21, 2009.

FOR FURTHER INFORMATION CONTACT: Assistant Director for Compliance, Outreach & Implementation, tel.: 202/622-2490, Assistant Director for Licensing, tel.: 202/622-2480, Assistant Director for Policy, tel.: 202/622-4855, Office of Foreign Assets Control, or Chief Counsel (Foreign Assets Control), tel.: 202/622-2410, Office of the General Counsel, Department of the Treasury (not toll free numbers).

SUPPLEMENTARY INFORMATION:

Electronic and Facsimile Availability

This document and additional information concerning OFAC are available from OFAC's Web site (www.treas.gov/ofac) or via facsimile through a 24-hour fax-on demand service, tel.: (202) 622-0077.

Background

OFAC promulgated the Persons Contributing to the Conflict in Côte d'Ivoire Sanctions Regulations, 31 CFR part 543 (the “Regulations”), on April 13, 2009 (74 FR 16763), to implement Executive Order 13396 of February 7, 2006 (“E.O. 13396”). In E.O. 13396, the President determined that the situation in Côte d'Ivoire, which has resulted in the massacre of large numbers of civilians, widespread human rights abuses, significant political violence and unrest, and attacks against international peacekeeping forces leading to fatalities, constitutes an unusual and extraordinary threat to the national security and foreign policy of the United States, and declared a national emergency to deal with that threat.

OFAC today is amending the Regulations to change their heading to the “Côte d'Ivoire Sanctions Regulations” for the sake of consistency with other sanctions regulations.

Public Participation

Because the Regulations involve a foreign affairs function, the provisions of Executive Order 12866 and the Administrative Procedure Act (5 U.S.C. 553) requiring notice of proposed rulemaking, opportunity for public participation, and delay in effective date are inapplicable. Because no notice of proposed rulemaking is required for this rule, the Regulatory Flexibility Act (5 U.S.C. 601-612) does not apply.

Paperwork Reduction Act

The collections of information related to the Regulations are contained in 31 CFR part 501 (the “Reporting, Procedures and Penalties Regulations”). Pursuant to the Paperwork Reduction Act of 1995 (44 U.S.C. 3507), those collections of information have been approved by the Office of Management and Budget under control number 1505-0164. An agency may not conduct or sponsor, and a person is not required to respond to, a collection of information unless the collection of information displays a valid control number.

List of Subjects in 31 CFR Part 543

Administrative practice and procedure, Banks, Banking, Blocking of assets, Côte d'Ivoire, Credit, Foreign Trade, Penalties, Reporting and recordkeeping requirements, Securities, Services.

For the reasons set forth in the preamble, the Department of the Treasury's Office of Foreign Assets Control amends part 543 of 31 CFR Chapter V as follows:

PART 543—CÔTE D'IVOIRE SANCTIONS REGULATIONS

1. The authority citation to part 543 continues to read as follows:

Authority: 3 U.S.C. 301; 31 U.S.C. 321(b); 50 U.S.C. 1601-1651, 1701-1706; 22 U.S.C. 287c; Pub. L. 101-410, 104 Stat. 890 (28 U.S.C. 2461 note); Pub. L. 110-96, 121 Stat. 1011; E.O. 13396, 71 FR 7389, 3 CFR, 2006 Comp., p. 209.

2. The heading of part 543 is revised to read as set forth above.

Dated: July 15, 2009.
Adam J. Szubin,
Director, Office of Foreign Assets Control.

[FR Doc. E9-17249 Filed 7-20-09; 8:45 am]

BILLING CODE 4811-45-P